DEPARTMENT OF TRANSPORTATION

Federal Highway Administration

Federal Transit Administration

Model Deployment of a Regional, Multi-Modal 511 Traveler Information System; Request for Participation

AGENCY: Federal Highway Administration (FHWA), Federal Transit Administration (FTA), DOT.

ACTION: Notice; request for participation.

SUMMARY: The Federal Highway Administration (FHWA) and the Federal Transit Administration (FTA) are seeking applications from public agencies that are currently deploying, or operating, a telephone system that delivers traveler information services so that those agencies may enhance their system to provide a high quality 511 service. This effort will provide for the enhancements to an existing telephone traveler information service, which has converted to the nationally available three-digit telephone number, 511, or will soon convert to 511. The purpose of this model deployment is to establish and document an innovative example of a 511 system that advances content quality and user interfaces. Applicants in response to this notice are encouraged to demonstrate their readiness to develop and implement a state-of-the-art 511 traveler information service and to articulate the adequacy of their proposed approach related to geographic areas, institutional coordination, and information to be provided.

DATES: Applications must be received at the office designated below on or before 4 p.m. on March 18, 2002.

ADDRESSES: Applications should be submitted to the U.S. Department of Transportation, Intelligent Transportation Systems (ITS) Joint Program Office (JPO), 511 Model Deployment, 400 Seventh St., SW., Room 3416, HOIT-1, Washington, DC 20590-0001.

FOR FURTHER INFORMATION CONTACT: For technical questions or concerns, please contact Mr. Robert Rupert, FHWA Office of Travel Management (HOTM-1), (202) 366-2194; Mr. Ron Boenau, FTA Advanced Public Transportation Systems Division (TRI-11), (202) 366-4995; or Mr. James Pol, FHWA Intelligent Transportation Systems (ITS) Joint Program Office (HOIT-1), (202) 366-4374. For legal questions or concerns please contact Ms. Gloria Hardiman-Tobin, FHWA Office of Chief Counsel (HCC-40), (202) 366-0780; or Ms. Linda Sorkin, FTA Office of Chief Counsel (HCC-20), (202) 366-1936; Department of Transportation, 400 Seventh Street, SW., Washington, D.C. 20590-0001. Office hours are from 8 a.m. to 4:30 p.m., e.t., Monday through Friday, except Federal holidays.

SUPPLEMENTARY INFORMATION:

Electronic Access

An electronic copy of this document may be downloaded using a modem and suitable communications software from the Government Printing Office's Electronic Bulletin Board Service at (202) 512-1661. Internet users may reach the Office of the Federal Register's home page at http://www.nara.gov/fedreg and the Government Printing Office's web page at http://www.access.gpo.gov/nara.

The document may also be viewed at the U.S. DOT's ITS home page at http://www.its.dot.gov.

Background

On July 21, 2000, the Federal Communications Commission assigned 511 as the nationwide traveler information telephone number and granted responsibility for it to government transportation agencies. The nationwide three-digit number utilizes and significantly advances the intelligent transportation infrastructure already in place to assist some States and cities in providing traveler information. Data obtained from 511 traveler information services will provide current information about bad weather, construction, or traffic jams that cause delays for businesses and the general public, as well as information about the status of transit buses, ferries, light rail, and other public transportation in local communities. In addition, by providing information that will direct drivers away from congestion and hazardous conditions, better access will be available for emergency vehicles responding to incidents.

This model deployment seeks to demonstrate the potential of 511 services to bring together various and disparate data, and provide useful information to travelers and potential travelers through a state-of-the-art telephone interface. The selected application (or applications) will demonstrate an understanding of the project objectives and will describe an approach that can be realistically accomplished within the schedule and funding constraints. The selected application will represent a location that presents a rich environment for generating a demand for traveler information. This environment will include recurring traffic congestion, on-going roadway construction impacting regional travel, variable weather conditions that impact travel, the availability of multiple modes of travel, and coordination with public safety agencies in a regional incident management program.

The timing of this model deployment has been planned by the U.S. DOT to take advantage of several on-going efforts by both the American Association of State Highway Transportation Officials (AASHTO) and the U.S. DOT. These efforts are at various stages of completion at the time of the release of this request for participation (RFP). It is the goal of the U.S. DOT that this model deployment illustrates how the innovative application of technologies can create a highly effective 511 service that sets a standard for high quality telephone traveler information. Some on-going research activities are likely to yield products that will aid in the advancement of the selected agency's 511 system. These on-going research efforts include the following activities:

(a) 511 Early Adopters Evaluations—Six areas of the country have been identified as early adopters of 511. These six areas are working with an independent evaluation team contracted by the FHWA to glean institutional and technical issues surrounding the redirection of existing traveler information phone numbers to 511. This is an on-going activity with reports available on the U.S. DOT 511 web page (http://www.its.dot.gov/511/511.htm). The six early adopters of 511 include metropolitan Cincinnati, Ohio (including Covington, Kentucky); San Francisco, California; Arizona (Statewide); Minnesota (Statewide); Utah (Statewide); and Detroit, Michigan.

(b) 511 Deployment Assistance and Coordination Program—The AASHTO is leading the 511 Deployment Coalition to develop policy and technical materials that will provide guidance to States and locations as they implement 511. Guidelines for the information content, service consistency, and quality of service will be available in the spring of 2002. More information on the guidelines can be obtained through http://www.itsa.org/511.html.

(c) Testing of XML conversion of the Society of Automotive Engineers (SAE) Advanced Traveler Information Systems (ATIS) Message Sets—The FHWA is currently testing the eXtensible Mark-up Language (XML) conversion of the SAE ATIS Message Sets through the implementation of a multi-jurisdictional traveler information service. The draft results of this test will be available by the end of 2001.¹

¹ For more information, visit http://www.mitretek.org/its/TripInfo/atis.html

(d) ATIS Data Fusion—The FHWA is beginning to develop guidelines for combining, or fusing, data from a variety of sources to produce traveler information. This effort focuses on examining the different levels of quality that can be achieved according to a set of operating scenarios. Draft data fusion guidelines will be available in early 2002, and will be retrievable through the U.S. DOT Web site at http://www.its.dot.gov.

Objectives and Scope of the 511 Model Deployment

The objective of the 511 model deployment is to “push the envelope” of traveler information quality production and dissemination, along with an innovative user interface that promotes ease of use without compromising the user's expectation for personalized information. The resulting deployment is expected to remain in operation following the end of the model deployment evaluation. The period of performance of the 511 model deployment is expected to be 12 months from the effective date of the partnership agreement.

The scope of this model deployment includes addressing the institutional coordination that is necessary to implement an effective, sophisticated 511 service. The agency lead for the project team to which this model deployment is awarded (hereafter referred to as “lead agency”) will assess the extent of integration that is currently available among the key stakeholder agencies (highway agencies, transit organizations and public safety agencies). The lead agency will secure agreements from each stakeholder to provide their content to the 511 system, and forge agreements that enable the transmission of information with the greatest frequency possible to provide current information. The lead agency will ensure that all the information elements that will be received from the stakeholders, including frequency of transmission of information, are documented. The lead agency will develop appropriate message sets to convey each of the stakeholders' information to a consolidation point. The message sets shall take full advantage of the Society of Automotive Engineers (SAE) standard message sets for ATIS (standard SAE J2354).² The lead agency will also consider the XML translation of the SAE Message Sets to simplify transmission via the Internet to any number of media outlets. Other viable solutions for exchanging information among centers will be considered.

² More information on the SAE ATIS Message Sets can be obtained through http://www.its-standards.net/Documents/J2354.pdf

The lead agency will describe the operational concept for the 511 service that articulates the roles and responsibilities for each of the stakeholders in providing content for the innovative 511. This operational concept will fully describe how the project team will seek innovative methods to deliver telephone-based traveler information. The lead agency will also distinguish how the information among its stakeholders will be conveyed according to geographical context. The purpose of developing an operational concept is to guide the lead agency, the stakeholder agencies, and the project participants in an understanding of what their levels of effort will be in sustaining the innovative 511 system. In addition, the operational concept will aid in the incorporation of new functionalities as technology and customer demands evolve.

Two elements of the innovative 511 service should be highlighted:

(1) The project team to which this 511 model deployment is awarded (hereafter referred to as “project team”) will perform data fusion of all stakeholder content. Effective data fusion will enable the 511 system to provide information to callers automatically on a route segment or corridor basis, with no direct contact necessary between callers and human operators. At a minimum, the content shall include: current traffic conditions; major service disruptions for public transportation properties; current information on active construction and maintenance projects along route segments that may affect traffic flow or restrict lanes; unplanned events, major incidents, or congestion that shut down or significantly restrict traffic for an extended period; transportation-related information associated with significant special events (fairs, sporting events, etc.); and abnormal weather or road surface conditions that could affect travel along the route segment. The project team will describe, in the operational concept, how the innovative 511 system will affect their existing methods of data fusion.

(2) The design of the user interface must allow callers to locate the content they desire quickly and efficiently. User interfaces must be consistent in appearance, but may vary in content according to the origin of the phone call, i.e., whether the caller is mobile or landline based. The user interface must take advantage of proven voice-recognition, voice response, and synthesized speech technologies. “Natural speech” techniques are desired. Keypad entry interfaces alone will not be considered innovative technology for this 511 model deployment. The user interface should provide the most convenient method of information retrieval possible. Keypad entry interfaces rely upon extensive information trees which extends the user's retrieval time. The following top-level commands should be used when a system has the relevant information available: “Transit Information,” “Highway Information,” “Airport Information,” “Rail Station Information,” and “Ferry Information.”

Upon the completion of the operational concept, the ITS Joint Program Office (ITS JPO) shall have the opportunity to review the progress of the project and determine the likelihood of a successful completion of the 511 model deployment. Upon completion of the review, the ITS JPO will determine if funding will be made available to the selected model deployment location for the completion of the innovative 511 service.

The project team will implement the 511 multi-modal, regional system and demonstrate that the system functions as described in the operational concept and as designed. The project team will ensure monitoring of the operational status of the 511 system, and that necessary adjustments are made. The project team will demonstrate that the 511 system has the stability criteria developed jointly between the U.S. DOT and the project team during the development of the operational concept. The project team will operate the stable 511 system in support of an evaluation for a period of time as jointly developed and agreed to during the development of the operational concept. The project team will provide an appropriate level of ongoing support to achieve completion of all deployment and testing tasks as described in the operational concept.

The project team will synthesize and present evaluation findings as they relate to the objectives of the model deployment. The project team will document the 511 system design, and synthesize the technical and institutional issues documented in previous tasks. The project team will submit a final report to the ITS JPO that includes the above information and describes the project and its findings.

Funding

The total amount of Federal funding available for this effort is estimated at $1,100,000. The instrument to provide funding, on a cost reimbursable basis, will be an ITS partnership agreement between the FHWA and a public organization. Multiple partnership agreements are anticipated. Federal funding authority is derived from § 5001(a)(5) of the Transportation Equity Act for the 21st Century (TEA-21), Public Law 105-178, 112 Stat. 107, 419 (1998). Actual award of funds will be subject to funding availability.

Matching Share

There is a statutorily required (refer to § 5001(b) and § 5207(d) of TEA-21) minimum twenty percent matching share that must be from non-federally derived funding sources, and must consist of either cash, substantial equipment contributions that are wholly utilized as an integral part of the project, or personnel services dedicated full-time to the 511 model deployment for a substantial period, as long as such personnel are not otherwise supported with Federal funds. The non-federally derived funding may come from State, local government, or private sector partners. Note that funding identified to support continued operations, maintenance, and management of the system will not be considered as part of the partnership's cost-share contribution.

Offerors are encouraged to consider additional matching share above and beyond the required minimum match described above. Those offerors willing to propose additional match may include the value of federally-supported projects directly associated with the 511 model deployment. Offerors that do propose additional matching share above and beyond the required minimum match may receive additional consideration in the proposal evaluation.

The U.S. DOT and the Comptroller General of the United States have the right to access all documents pertaining to the use of Federal ITS funds and non-Federal contributions. Grantees and subgrantees are responsible for obtaining audits in accordance with the Single Audit Act Amendments of 1996 (31 U.S.C. 7501-7507) and revised OMB Circular A-133, “Audits of States, Local Governments, and Non-Profit Organizations.” The audits shall be made by an independent auditor in accordance with generally accepted government auditing standards covering financial audits (refer to 49 CFR 18.26).

National Evaluation

Evaluation is the reasoned consideration of how well project goals and objectives are being achieved. The primary purpose of evaluation is to cause changes in the project so that it eventually meets or exceeds its goals and objectives. Formal, in-depth, independently conducted evaluations are funded by the ITS JPO.

The partnerships selected to participate in this 511 model deployment are expected to cooperate with the ITS JPO and its national evaluation team. The independent national evaluator is selected and provided by the ITS JPO.

This cooperation that is expected by the awarded partnership includes:

(a) Providing all relevant project information such as cost data (deployment, operations, and maintenance), project goals and objectives, contractual documents, project documentation, existing or archived data, benefits data, and other project related information;

(b) Ensuring that the relevant project information is provided to the independent national evaluator in a timely fashion;

(c) Identifying an evaluation point(s) of contact to represent the participating agencies in coordinating with the independent national evaluator;

(d) Making accommodations (where appropriate) for the independent national evaluator to be present at coordination or partnership meetings;

(e) Ensuring that any self-evaluation activities being conducted by the project participants are coordinated with and reviewed by the national evaluation effort; and

(f) Providing review of relevant reports, presentations, etc., prepared by the independent national evaluator.

Eligibility

To be eligible for participation in the 511 model deployment program, applications must:

(a) Demonstrate that they either have an operational 511 traveler information telephone system, or have a telephone system for traveler information that is prepared to convert to using 511;

(b) Demonstrate that the proposed location for the 511 model deployment experiences recurring congestion, has roadway construction that will significantly impact regional travel for the period of the model deployment, is likely to experience weather conditions that will impact regional travel during the period of the model deployment (snowstorms, hurricanes, etc.), offers multiple mode choices for regional travel, and has some form of regional incident management program that is coordinated with public safety agencies;

(c) Demonstrate that the transportation data and information generated from the federal funds applied to this model deployment, as well as all public sector matching funds, will be made available equally and freely (apart from the costs of the physical connection to retrieve such data) to all parties who express interest in such data or information;

(d) Demonstrate that sufficient funding is available to successfully complete all aspects of implementing the 511 model deployment;

(e) Contain a technical plan, a management and staffing plan, and a financial plan. Any portion of the application or its contents that may contain proprietary information shall be clearly indicated; otherwise, the application and its contents shall be non-proprietary; and

(f) Demonstrate a commitment to a 12 month schedule that will produce results within the expected period of performance.

Instructions to Applicants

An application to participate in the 511 model deployment shall consist of three parts: (1) A technical plan describing the proposed project team and the approach for implementing 511 services in accordance with the objectives and scope; (2) a management and staffing plan that provides the names of all key personnel and the positions they will occupy as related to this project; and (3) a financial plan, that describes the proposed activities to be conducted with this funding. The complete application shall not exceed 35 pages in length, exclusive of appendices, résumés, and Memoranda of Understanding (MOUs) or other documents indicating cooperation among proposing parties. A page is defined as one side of an 8½ by 11-inch paper, with a type font no smaller than 12 point. Applicants must submit seven (7) copies plus an unbound reproducible copy. The cover sheet or front page of the application should include the name, address, e-mail address, fax number and phone number of an individual to whom correspondence and questions about the application may be directed.

The technical, management and staffing, and financial plans together shall describe the existing inter-agency, inter-jurisdictional, and public/private cooperation and partnership arrangements, working relationships, and information sharing that will be integral to the 511 model deployment. All inter-agency, inter-jurisdictional, and public/private cooperation and partnerships necessary to support the 511 model deployment shall be documented with signed MOUs, or alternate appropriate documents, that clearly define financial and programmatic responsibilities and relationships among the partners. Similarly, the application should document business relationships with the private sector to support the 511 model deployment, for example, as telecommunications providers or as providers of traveler information services or products. The MOUs, or alternate appropriate documents, must clearly describe and document the role of the private sector, and the financial and institutional arrangement(s) under which they are integrated into the 511 model deployment. Applicants should include copies of the MOUs or other indications of cooperation. Applicants are strongly encouraged to seek participation from certified disadvantaged business enterprises (see 49 CFR part 26), historically black colleges and universities, Hispanic serving institutions, and other minority colleges.

Applications shall be organized in the following three sections:

1. Technical Plan

Applications should describe the partnership or project team arrangements, which include providing the information described in the preceding paragraph. Applications should describe the methodology for advancing their existing, or soon-to-be-available, 511 system to provide a sophisticated user interface with high quality content. This technical approach, at a minimum, should:

(a) Describe the methodology to collocate and ultimately to fuse relevant data elements to provide 511 users with comprehensive, current, multi-modal traveler information, including a description of the current sources of information along with the sources of information that will be included for the innovative 511;

(b) Describe the provision of any personalized and/or geographically specific content to the 511 user (applicants must demonstrate an acknowledgement and understanding of the ITS Fair Information and Privacy Principles crafted by the Intelligent Transportation Society of America³);

³ This document can be obtained through http://www.itsa.org/privacy.html

(c) Describe a generalized migration plan that describes how and when the existing, or soon-to-be-deployed, 511 service will be migrated to the proposed innovative services;

(d) Describe how the enhanced 511 service will differ from the service already provided to the user in terms of sophistication of the user interface and the reliability and quality of the information provided; and

(e) Describe how the 511 service may be accessible for the rural and inter-city travelers.

2. Project Management and Staffing Plan

The application should include a management and staffing plan that provides a clear description of the lines of responsibility, authority, and communication among the participants in the 511 model deployment. The management and staffing plan shall include the names of all key personnel and the positions they will occupy as related to the 511 model deployment. Provide the estimated staffing in terms of length of employment for each staff member and categorized by the types of staff required. The management and staffing plan should demonstrate that the project manager is capable, available, and able to commit to a level of involvement that ensures project success. Also include brief biographical summaries of key technical and other personnel. Applicants should provide the schedule of all key activities, including contingency for possible difficulties.

3. Financial Plan

The application should provide a description of the cost of achieving the objectives of the model deployment, and the partnership's plans for ensuring the matching funds required by this solicitation. The application should provide a statement of commitment from the proposed 511 model deployment partners that affirms that the proposed funding is secure. The application should include all financial commitments, from both the public and private sector.

Selection Criteria

Applicants must submit acceptable technical, management and staffing, and financial plans together that provide sound evidence that the proposed partnership can successfully meet the objectives of the 511 model deployment. The ITS JPO will use the following criteria, in order of importance, in selecting locations for participation in the 511 model deployment.

1. Technical Plan

The technical plan must contain an operational concept and technical approach that demonstrates how the 511 model deployment will operate when fully implemented, as well as during any incremental implementation steps leading to full deployment. The technical plan must define the operational roles and responsibilities of the partners during operations (and key operator responsibilities). Applicants must describe the changes to existing systems and additional elements.

The technical plan will be evaluated on its adequacy and reasonableness to achieve the objectives of the 511 model deployment, as previously described under Objectives and Scope of the 511 Model Deployment. In particular, the technical plan will be evaluated for the overall concept and the extent to which it addresses the scope described for the 511 model deployment, including the content and user interface of the 511 system. Specifically, the following sub-criteria will be used to evaluate the technical proposal (these criteria are listed in order of importance):

(a) The ability to provide frequently updated information from a variety of sources including traffic management, transit management, roadway weather information services, construction and road closure information, parking management, and emergency services;

(b) How well the applicant demonstrates the capacity to provide sophisticated, innovative solutions in content creation, fusion, and dissemination;

(c) How well the applicant demonstrates the capacity to provide sophisticated, innovative solutions in designing and implementing the user interface;

(d) The design of an implementation strategy including a timeline for rollout of the enhanced 511 service;

(e) The application of ITS Standards for information exchange and delivery; and

(f) The demonstrated ability to bring together State, metropolitan, and local partners to create a seamless, regional traveler information system.

2. Management and Staffing Plan

The management and staffing plan must demonstrate a reasonable estimate that reflects the level of effort and skills needed to successfully complete the 511 model deployment, along with the identification of the organizations that will supply the staff needed, lines of reporting, and responsibilities. The management and staffing plan must include the names and qualifications of key staff.

The management and staffing plan will demonstrate a commitment to hire or assign a project manager and provide adequate full-time staff to ensure timely implementation of the 511 model deployment. Proposed staff should have demonstrated skills for effective operations and management, or the commitment to acquiring the necessary skills in relevant technical areas, such as systems engineering and integration; telecommunications; and information management.

The selection will be based on the adequacy, thoroughness, and appropriateness of the management and staffing plan, including organization of the project team, staffing allocation, and the schedule for completing the proposed work. Some of the specific items that will be evaluated in the management and staffing plan are:

(a) The availability of key personnel among the participating agencies to attend periodic 511 coordination meetings;

(b) The key personnel that are focused on the systems engineering aspects for incorporating the enhancements to the existing, or soon-to-be-deployed, 511 service; and

(c) A staffing chart that demonstrates the relationships among the participating organizations, including the names of the key personnel from each of the organizations.

3. Financial Plan

The ITS JPO will evaluate the applications based on the total cost of the 511 model deployment, as well as the individual staffing costs. The financial plan must demonstrate that sufficient funding is available to successfully complete all aspects of the 511 model deployment as described in the technical plan. The financial plan must provide the financial information described previously under Instructions to Applicants. The financial plan must include a clear identification of the proposed funding for the 511 model deployment, including an identification of the required minimum 20% matching funds.

The financial plan must include a sound financial approach to ensure the timely deployment and the continued, long-term operations and management of the 511 system. The financial plan must include documented evidence of continuing fiscal capacity and commitment from anticipated public and private sources.

Authority: Sec. 5001(a)(5), sec. 5001(b), sec. 5207(d), Pub. L. 105-178, 112 Stat. 107, 420; 23 U.S.C. 315; 49 CFR 1.48; and 49 CFR 18.26.

Issued on: January 9, 2002.
Mary E. Peters,
Administrator, Federal Highway Administration.
Jennifer L. Dorn,
Administrator, Federal Transit Administration.

[FR Doc. 02-1163 Filed 1-15-02; 8:45 am]

BILLING CODE 4910-22-P